INTERNATIONAL TRADE COMMISSION

[Investigation Nos. 701-TA-670 and 731-TA-1570 (Final)]

Freight Rail Coupler Systems and Components From China

Determinations

On the basis of the record ¹ developed in the subject investigations, the United States International Trade Commission (“Commission”) determines, pursuant to the Tariff Act of 1930 (“the Act”), that an industry in the United States is not materially injured or threatened with material injury by reason of imports of freight rail coupler systems and components from China, provided for in subheading 8607.30.10 ² of the Harmonized Tariff Schedule of the United States, that have been found by the U.S. Department of Commerce (“Commerce”) to be sold in the United States at less than fair value (“LTFV”), and to be subsidized by the government of China.³

¹ The record is defined in § 207.2(f) of the Commission's Rules of Practice and Procedure (19 CFR 207.2(f)).

² Unfinished subject merchandise may also be imported under subheading 7326.90.86. Subject merchandise attached to finished rail cars may also be imported under subheadings 8606.10.00, 8606.30.00, 8606.91.00, 8606.92.00, 8606.99.01 or under subheading 9803.00.50 if imported as an Instrument of International Traffic.

³ 87 FR 30869 (May 20, 2022) and 87 FR 32121 (May 27, 2022).

Background

The Commission instituted these investigations effective September 29, 2021, following receipt of petitions filed with the Commission and Commerce by the Coalition of Freight Coupler Producers consisting of McConway & Torley LLC (“M&T”), Pittsburgh, PA, and the United Steel, Paper and Forestry, Rubber, Manufacturing, Energy, Allied Industrial and Service Workers International Union, AFLCIO, CLC (“USW”).⁴ The final phase of the investigations was scheduled by the Commission following notification of preliminary determinations by Commerce that imports of freight rail coupler systems and components from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 8, 2022 (87 FR 14037). The Commission conducted its hearing on May 12, 2022. All persons who requested the opportunity were permitted to participate.

⁴ Initially, Petitioner was M&T and another domestic producer. However, the other domestic producer withdrew, and USW was added to the petitions.

The Commission made these determinations pursuant to §§ 705(b) and 735(b) of the Act (19 U.S.C. 1671d(b) and 19 U.S.C. 1673d(b)). It completed and filed its determinations in these investigations on July 5, 2022. The views of the Commission are contained in USITC Publication 5331 (July 2022), entitled Freight Rail Coupler Systems and Components from China: Investigation Nos. 701-TA-670 and 731-TA-1570 (Final).

By order of the Commission.
Issued: July 5, 2022.
William Bishop,
Supervisory Hearing and Information Officer.

[FR Doc. 2022-14639 Filed 7-8-22; 8:45 am]

BILLING CODE 7020-02-P